DEPARTMENT OF THE TREASURY

Agency Information Collection Activities; Submission for OMB Review; Comment Request; Multiple Alcohol and Tobacco Tax and Trade Bureau Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before November 27, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Alcohol and Tobacco Tax and Trade Bureau (TTB)

1. Title: Brewer's Notices; and Letterhead Applications and Notices Filed by Brewers.

OMB Control Number: 1513-0005.

Type of Review: Revision of a currently approved collection.

Description: The Internal Revenue Code (IRC) at 26 U.S.C. 5401 requires brewers to file a notice of intent to operate a brewery, containing such information as prescribed by regulation. Under this authority, TTB requires brewery applicants to submit TTB F 5130.10, Brewer's Notice, which collects information similar to that provided on a permit application. Under the TTB regulations, the brewer maintains the approved Brewer's Notice and all associated documents at the brewery premises available for inspection. Under the TTB regulations promulgated pursuant to the IRC, brewers submit letterhead applications or notices for authorization to conduct certain activities, such as to use a brewery for purposes other than those authorized (see 26 U.S.C. 5411) or to operate a pilot brewery (see 26 U.S.C. 5417). Letterhead applications and notices are necessary to identify brewery activities so that TTB may ensure that proposed operations will not jeopardize the revenue and will comply with the IRC and the TTB regulations.

Form: TTB F 5130.10.

Recordkeeping Number: TTB REC 5130/2.

Affected Public: Business or other for-profits.

Estimated Number of Respondents: 10,340.

Frequency of Response: On occasion.

Estimated Total Number of Annual Responses: 30,340.

Estimated Time per Response: 30 minutes to 3 hours.

Estimated Total Annual Burden Hours: 21,690.

2. Title: Signing Authority for Corporate and LLC Officials.

OMB Control Number: 1513-0036.

Type of Review: Extension without change of a currently approved collection.

Description: Under the IRC at 26 U.S.C. 6061, any return, statement, or other document required to be made under the internal revenue laws or regulations “shall be signed in accordance with forms or regulations” prescribed by the Secretary of the Treasury. Corporations and limited liability companies (LLCs) use TTB F 5100.1 or its electronic equivalent to identify specific corporate or LLC officials or employees, by name or by position title, authorized by the entity's articles of incorporation, bylaws, or governing officials to act on behalf of, or sign documents for, the entity in TTB matters. This information collection is necessary to ensure that only duly authorized individuals sign documents submitted to TTB on behalf of corporations or LLCs.

Form: TTB F 5100.1.

Affected Public: Businesses or other for-profits.

Estimated Number of Respondents: 5,300.

Frequency of Response: Once.

Estimated Total Number of Annual Responses: 5,300.

Estimated Time per Response: 11 minutes (online) and 15 minutes (paper).

Estimated Total Annual Burden Hours: 1,052 hours.

3. Title: Application for an Alcohol Fuel Producer Permit Under 26 U.S.C. 5181.

OMB Control Number: 1513-0051.

Type of Review: Extension without change of a currently approved collection.

Description: Under the authority of the IRC at 26 U.S.C. 5181(a)(1), persons wishing to establish a distilled spirits plant for the sole purpose of producing and receiving distilled spirits for fuel use must provide an application and bond as the Secretary may prescribe by regulation. Under this authority, TTB has issued regulations concerning the establishment of such alcohol fuel plants (AFPs). These regulations require, among other things, that a person wishing to establish an AFP submit an application for an alcohol fuel producer permit using form TTB F 5110.74. This application form and its required supporting documents describe, among other things, the person(s) applying for the permit, the proposed AFP's location, its stills and the type(s) of materials to be distilled, the size category of the operation (small, medium, or large) based on the annual amount of alcohol fuel to be produced, and the security measures to be taken to protect the spirits from diversion and theft. The application also must include a diagram of the plant premises. In addition, existing alcohol fuel producer permit holders use TTB F 5110.74 to make certain amendments to their permit information. The information required on the alcohol fuel producer permit application is necessary to protect the revenue since, when first produced, distilled spirits made at AFPs are potable and are thus subject could to the Federal distilled spirits excise tax imposed by the IRC at 26 U.S.C. 5001. Only when denatured for fuel use as required by 26 U.S.C. 5181(e) may spirits be withdrawn from the AFP free of tax, as authorized by 26 U.S.C. 5214(a)(12).

Form: TTB F 5110.74.

Affected Public: Business or other for-profits; Individuals or Households.

Estimated Number of Respondents: 240.

Frequency of Response: Once.

Estimated Total Number of Annual Responses: 240.

Estimated Time per Response: 1.5 hours.

Estimated Total Annual Burden Hours: 355 hours.

Authority: 44 U.S.C. 3501 et seq.

Dated: October 22, 2020.
Molly Stasko,
Treasury PRA Clearance Officer.

[FR Doc. 2020-23790 Filed 10-27-20; 8:45 am]

BILLING CODE 4810-31-P